DEPARTMENT OF HOMELAND SECURITY

Coast Guard

33 CFR Part 100

[Docket No. USCG-2022-0271]

Special Local Regulations; Annual Les Cheneaux Islands Antique Wooden Boat Show; Hessel, MI

AGENCY: Coast Guard, Department of Homeland Security (DHS).

ACTION: Notification of enforcement of regulation.

SUMMARY: The Coast Guard will enforce the Annual Les Cheneaux Islands Antique Wooden Boat Show special local regulation on Marquette Bay, Hessel, MI, to protect the safety of life and property on navigable waters prior to, during, and immediately after this event. During the enforcement period, entry into, transiting, or anchoring within the regulated area is prohibited unless authorized by the Captain of the Port Sault Sainte Marie or a designated representative.

DATES: The regulations in 33 CFR 100.922 will be enforced from 6 a.m. through 8 p.m. on August 13, 2022.

FOR FURTHER INFORMATION CONTACT: If you have questions about this notification of enforcement, call or email LT Deaven Palenzuela, Chief of Waterways Management Division, U.S. Coast Guard; telephone 906-635-3223, email ssmprevention@uscg.mil.

SUPPLEMENTARY INFORMATION: The Coast Guard will enforce the special local regulations in 33 CFR 100.922 for the Annual Les Cheneaux Islands Antique Wooden Boat Show in Hessel, MI, from 6 a.m. through 8 p.m. on August 13, 2022. This action is being taken to protect the safety of life and property on navigable waters prior to, during, and immediately after the event. Our special local regulations for the annual Les Cheneaux Islands Antique Wooden Boat Show § 100.922, specifies the location of the regulated area which encompasses portions of Marquette Bay, Hessel, MI. During the enforcement period, all vessels while in the regulated area will operate at a no wake speed and follow the directions of the on-scene patrol commander. The Coast Guard may be assisted by other Federal, State, or local law enforcement agencies in enforcing this regulation.

In addition to this notification of enforcement in the Federal Register, the Coast Guard plans to provide notification of this enforcement period via the Local Notice to Mariners and/or marine information broadcasts.

Dated: May 3, 2022.
A.R. Jones,
Captain, U.S. Coast Guard, Captain of the Port Sault Sainte Marie.

[FR Doc. 2022-10007 Filed 5-9-22; 8:45 am]

BILLING CODE 9110-04-P